COMMODITY FUTURES TRADING COMMISSION

Sunshine Act Meeting

TIME AND DATE: 11 a.m., Friday, July 28, 2006.

PLACE: 1155 21st St., NW., Washington, DC, 9th Floor Commission Conference Room.

STATUS: Closed.

MATTERS TO BE CONSIDERED: Surveillance Matters.

FOR FURTHER INFORMATION CONTACT: Eileen A. Donovan, 202-418-5100.

Eileen A. Donovan,
Acting Secretary of the Commission.

[FR Doc. 06-5519 Filed 6-14-06; 1:32 pm]

BILLING CODE 6351-01-M